NUCLEAR REGULATORY COMMISSION

[Docket Nos. 50-348, 50-364; NRC-2017-0044]

Southern Nuclear Company, Inc.; Joseph M. Farley Nuclear Plant, Units 1 and 2

AGENCY: Nuclear Regulatory Commission.

ACTION: Environmental assessment and finding of no significant impact; issuance.

SUMMARY: The U.S. Nuclear Regulatory Commission (NRC) is making a finding of no significant impact for a proposed issuance of amendments to Renewed Facility Operating License Nos. NPF-2 and NPF-8, held by Southern Nuclear Company, Inc. (SNC, the licensee) for the operation of Joseph M. Farley Nuclear Plant (Farley), Unit 1 and Unit 2, respectively, located in Houston County, Alabama. The proposed amendments would allow for the adoption of a common (fleet-wide) SNC Standard Emergency Plan (SEP), with site-specific annexes.

DATES: February 17, 2017.

ADDRESSES: Please refer to Docket ID NRC-2017-0044 when contacting the NRC about the availability of information regarding this document. You may obtain publicly-available information related to this document using any of the following methods:

• Federal Rulemaking Web site: Go to http://www.regulations.gov and search for Docket ID NRC-2017-0044. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, the ADAMS accession numbers are provided in a table in the “Availability of Documents” section of this document.

• NRC's PDR: You may examine and purchase copies of public documents at the NRC's PDR, Room O1-F21, One White Flint North, 11555 Rockville Pike, Rockville, Maryland 20852.

FOR FURTHER INFORMATION CONTACT: Shawn A. Williams, Office of Nuclear Reactor Regulation, U.S. Nuclear Regulatory Commission, Washington DC 20555-0001; telephone: 301-415-1009; email: Shawn.Williams@nrc.gov.

SUPPLEMENTARY INFORMATION:

I. Introduction

The NRC is considering issuance of amendments pursuant to § 50.54 of title 10 of the Code of Federal Regulations (10 CFR), “Conditions of licenses,” paragraph (q), to Renewed Facility Operating License Nos. NPF-2 and NPF-8, held by Southern Nuclear Company, Inc. (SNC, the licensee) for the operation of Joseph M. Farley Nuclear Plant (Farley), Unit 1 and Unit 2, respectively, located in Alabama, Houston County.

In accordance with 10 CFR 51.21, the NRC has prepared an environmental assessment (EA) that analyzes the environmental effects of the proposed licensing action. Based on the results of the environmental assessment, and in accordance with 10 CFR 51.31(a), the NRC has prepared a finding of no significant impact (FONSI) for the proposed amendments.

II. Environmental Assessment

Description of the Proposed Action

The proposed action would revise Farley, Unit 1 and Unit 2, Renewed Facility Operating Licenses in order to allow the adoption of a fleet-wide SNC SEP that includes site-specific annexes. If approved, the SEP would establish an updated licensing basis for the SNC fleet of nuclear power plants (Farley, Units 1 and 2; Edwin I Hatch, Units 1 and 2; and Vogtle Electric Generating Plants Station; Units 1, 2, 3, and 4) that complies with current NRC's regulations at 10 CFR 50.47, 10 CFR part 50, appendix E, and NUREG-0654/FEMA-REP-1, Revision 1.

Notable proposed changes are (a) adoption of a standard staff augmentation time period of 75 minutes from time of declaration of an Alert or higher Emergency Classification, (b) changes in staffing numbers, (c) changes in staffing duties, and (d) consolidation of the Joint Information Center.

The proposed action is in accordance with the licensee's application dated August 31, 2015, as supplemented by letters dated February 17, 2016; April 8, 2016; May 26, 2016; June 9, 2016; and November 2, 2016, respectively.

Need for the Proposed Action

Nuclear power plant owners, government agencies, and State and local officials work together to create a system for emergency preparedness and response that will serve the public in the unlikely event of an emergency. An effective emergency preparedness program decreases the likelihood of an initiating event at a nuclear power reactor proceeding to a severe accident. Emergency preparedness cannot affect the probability of the initiating event, but a high level of emergency preparedness increases the probability of accident mitigation if the initiating event proceeds beyond the need for initial operator actions.

Each licensee is required to establish emergency plans to be implemented in the event of an accident. These emergency plans cover preparations for evacuation, sheltering, and other actions to protect residents near plants in the event of a serious incident.

The NRC, as well as other federal and state regulatory agencies review the subject plans to ensure that the condition of emergency preparedness provides reasonable assurance that adequate protective measures can and will be taken in the event of a radiological emergency.

Separate from this EA, the NRC staff is evaluating SNC's proposed changes to the SEP for Farley. This review will be documented in the safety evaluation report for the proposed license amendment. The staff's review will determine whether there is reasonable assurance that adequate protective measures can and will be taken in the event of a radiological emergency in accordance with 10 CFR 50.47(b)(1) through (b)(16), and the requirements in appendix E to 10 CFR part 50.

The proposed action is needed to make SNC's fleet of nuclear power plants (SNC fleet) emergency plans easier to follow and understand. By standardizing emergency plans, with site specific annexes, SNC will align the SNC fleet using consistent standards and definitions. This will improve the consistency throughout the SNC fleet regarding: (1) Emergency planning organizations, (2) duties and responsibilities of emergency personnel, (3) procedures, and (4) training.

Environmental Impacts of the Proposed Action

The NRC has completed its evaluation of the proposed action. The proposed action consists mainly of administrative changes related to the rearrangement of NRC-approved Farley, Hatch, and Vogtle emergency plans into one SNC SEP with site-specific annexes. Notable changes include (a) the adoption of a standard staff augmentation time period of 75 minutes from time of declaration of an Alert or higher Emergency Classification (b) changes in staffing numbers, (c) changes in staffing duties, and (d) consolidation of the Joint Information Center.

The proposed changes would have no direct impacts on land use or water resources, including terrestrial and aquatic biota as the proposed action involves no new construction or modification of plant operational systems. There would be no changes to the quality or quantity of non-radiological effluents. No changes to the plant's National Pollutant Discharge Elimination System permit are needed. Changes in staffing levels associated with the adopted SEP, and site-specific annex for Farley, could result in minor changes in vehicular traffic and associated air pollutant emissions, but no significant changes in ambient air quality would be expected. In addition, there would be no noticeable effect on socioeconomic conditions in the region, no environment justice impacts, and no impacts to historic and cultural resources. Therefore, there would be no significant non-radiological impacts associated with the proposed action.

The NRC has concluded that the proposed action would not significantly affect plant safety and would not have a significant adverse effect on the probability of an accident occurring. There would be no change to radioactive effluents that affect radiation exposures to plant workers and members of the public. No changes would be made to plant buildings or the site property. Therefore, the proposed action would not result in a change to the radiation exposures to the public or radiation exposure to plant workers.

Environmental Impacts of the Alternatives to the Proposed Action

As an alternative to the proposed action, the NRC considered denial of the proposed action (i.e., the “no-action” alternative). Denial of the license amendment request would result in no change in current environmental impacts.

Alternative Use of Resources

There are no unresolved conflicts concerning alternative uses of available resources under the proposed action.

Agencies and Persons Consulted

On January 11, 2017, the staff consulted with the Alabama State official, Mr. D. Walker of the Office of Radiation Control, regarding the environmental impact of the proposed action. The state official had no comments.

III. Finding of No Significant Impact

The licensee has requested license amendments pursuant to 10 CFR 50.54(q) to adopt a fleet-wide SEP, with a specific annex, for Farley. The NRC is considering issuing the requested amendments. The proposed action would not significantly affect plant safety, would not have a significant adverse effect on the probability of an accident occurring, and would not have any significant radiological and non-radiological impacts. The reason the environment would not be significantly affected is because the proposed changes would only result in minor changes in staffing levels and associated vehicular traffic, along with a small increase in air pollutant emissions. This FONSI incorporates by reference the EA in Section II of this notice. Therefore, the NRC concludes that the proposed action will not have a significant effect on the quality of the human environment. Accordingly, the NRC has determined not to prepare an environmental impact statement for the proposed action.

The related environmental document is the “Generic Environmental Impact Statement for License Renewal of Nuclear Plants: Regarding Joseph M. Farley Nuclear Plant, Units 1 and 2, Final Report,” NUREG-1437, Supplement 18. NUREG-1437, Supplement 18 provides the latest environmental review of current operations and description of environmental conditions at Farley.

The finding and other related environmental documents may be examined, and/or copied for a fee, at the NRC's Public Document Room (PDR), located at One White Flint North, 11555 Rockville Pike, Rockville, Maryland 20852. Publicly-available records will be accessible electronically from ADAMS Public Electronic Reading Room on the Internet at the NRC's Web site: http://www.nrc.gov/reading-rm/adams.html.

Persons who do not have access to ADAMS or who encounter problems in accessing the documents located in ADAMS should contact the NRC's PDR Reference staff by telephone at 1-800-397-4209 or 301-415-4737, or send an email to pdr.resource@nrc.gov.

IV. Availability of Documents

The documents identified in the following table are available to interested persons through one or more of the following methods, as indicated.

Document | ADAMS Accession No./Web link/ Federal Register Citation
Southern Nuclear Operating Company, License Amendment Request for Adoption of Standard Emergency Plan, Dated August 31, 2015 | ML15246A045
Southern Nuclear Operating Company, Response to Request For Additional Information Regarding License Amendment Request for Adoption of Standard Emergency Plan, Dated February 17, 2016 | ML16060A283
Southern Nuclear Operating Company, Response to Request For Additional Information Regarding License Amendment Request for Adoption of Standard Emergency Plan, Dated April 8, 2016 | ML16105A194
Southern Nuclear Operating Company, Corrected Response to Request For Additional Information Regarding License Amendment Request for Adoption of Standard Emergency Plan, Dated May 26, 2016 | ML16147A294
Southern Nuclear Operating Company, Response to Request For Additional Information Regarding License Amendment Request for Adoption of Standard Emergency Plan, Dated June 9, 2016 | ML16167A468
Southern Nuclear Operating Company, Letter RE: Standard Emergency Plan Implementation Date, Dated November 2, 2016 | ML16307A404
NUREG-1437, Supplement 18, Generic Environmental Impact Statement for License Renewal of Nuclear Plants: Regarding Joseph M. Farley Nuclear Plant, Units 1 and 2, Final Report, Dated March 2005 | ML050680297

Dated at Rockville, Maryland, this 9th day of February 2017.
For the Nuclear Regulatory Commission.
Shawn A. Williams,
Project Manager, Plant Licensing Branch II-1, Division of Operating Reactor Licensing, Office of Nuclear Reactor Regulation.

[FR Doc. 2017-03238 Filed 2-16-17; 8:45 am]

BILLING CODE 7590-01-P